NATIONAL CREDIT UNION ADMINISTRATION

Notice of Sunshine Act Meeting

Time and Date: 10 a.m., Thursday, April 12, 2007.

Place: Board Room, 7th Floor, Room 7047, 1775 Duke Street, Alexandria, VA 22314-3428.

Status: Open.

Matters to be Considered:

1. Quarterly Insurance Fund Report.

2. Proposed Rule: Part 708b of NCUA's Rules and Regulations, Disclosure of Merger Related Compensation.

3. Proposed Rule: Section 701.3 of NCUA's Rules and Regulations, Member Inspection of Credit Union Books, Records, and Minutes.

Recess: 11:15 a.m.

Time and Date: 11:30 a.m., Thursday, April 12, 2007.

Place: Board Room, 7th Floor, Room 7047, 1775 Duke Street, Alexandria, VA 22314-3428.

Status: Closed.

Matters to be Considered:

1. One (1) Administrative Action under Section 206 of the Federal Credit Union Act. Closed pursuant to Exemptions (8), (9)(A)(ii), and (B).

2. Part 703 of NCUA's Rules and Regulations, Pilot Program Request. Closed pursuant to Exemptions (4) and (8).

3. One (1) Personnel Matter. Closed pursuant to Exemptions (2) and (6).

FOR FURTHER INFORMATION CONTACT: Mary Rupp, Secretary of the Board, Telephone: 703-518-6304.

Mary Rupp,
Secretary of the Board.

[FR Doc. 07-1774 Filed 4-5-07; 4:07 pm]

BILLING CODE 7535-01-M